DEPARTMENT OF HOUSING AND URBAN DEVELOPMENT

[Docket No. FR-4910-N-19]

Notice of Proposed Information Collection for Public Comment; Indian Housing Block Grant Program Under the Native American Housing Assistance and Self-Determination Act: Data Collection

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: October 29, 2004.

ADDRESSES: Interested persons are invited to submit comments regarding this proposal. Comments should refer to the proposal by name and/or OMB Control number and should be sent to: Sherry Fobear-McCown, Reports Liaison Officer, Public and Indian Housing, Department of Housing and Urban Development, Public and Indian Housing, Office of Policy, Program, and Legislative Initiatives, 451 7th Street, SW., Room 4116, Washington, DC 20410-5000.

FOR FURTHER INFORMATION CONTACT: Sherry Fobear-McCown, (202) 708-0713, extension 7651, for copies of the proposed forms and other available documents. (This is not a toll-free number).

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice Also Lists the Following Information:

Title of Proposal: Data Collection for the Indian Housing Block Grant Program under the Native American Housing Assistance and Self-Determination Act: Indian Housing Plan, Annual Performance Report, and Federal Cash Transactions Report—Office of Native American Programs (ONAP).

OMB Control Number: 2577-0218.

Description of the Need for the Information and Proposed Use: The Native American Housing Assistance and Self-Determination Act requires recipients (which includes both tribes and tribally designated housing entities) to submit to ONAP specific information that is necessary if they want to implement low-income housing programs in their communities using Indian Housing Block Grant (IHBG) funds. IHBG funds are made available using a formula developed through negotiated rulemaking procedures.

Agency Form Number: Indian Housing Plan (HUD-52735); Annual Performance Report (HUD-52735-AS); Federal Cash Transactions Report—ONAP (HUD-272-I).

Members of Affected Public: Indian Tribes and Alaska Native Villages.

Estimation of the Total Number of Hours Needed to Prepare the Information Collection Including Number of Respondents: 366 respondents, 1 response for HUD-52735 and HUD-52735-AS per respondent and 4 responses for HUD-272-I per respondent, 2,196 total responses, 181 average hours per response for HUD-52735 and HUD-52735-AS per response and 1½ hours per response for HUD-272-I, 134,592 hours for a total reporting burden.

Status of the Proposed Information Collection: Extension of currently approved collection.

Authority: Section 3506 of the Paperwork Reduction Act of 1995, 44 U.S.C. chapter 35, as amended.

Dated: August 20, 2004.
William Russell,
Deputy Assistant Secretary for Public Housing and Voucher Programs.

[FR Doc. 04-19764 Filed 8-27-04; 8:45 am]

BILLING CODE 4210-33-P